DEPARTMENT OF HEALTH AND HUMAN SERVICES

National Institutes of Health

Center for Scientific Review; Amended Notice of Meeting

Notice is hereby given of a change in the meeting of the Center for Scientific Review Special Emphasis Panel, Fellowships: Biophysical, Physiological, Pharmacological, and Bioengineering Neurosciences, October 10, 2013, 8:00 a.m. to October 11, 2013, 5:00 p.m., Hilton Garden Inn Bethesda, 7301 Waverly Street, Bethesda, MD 20814 which was published in the Federal Register on September 11, 2013, 78 FR 55753.

The meeting will be held at the National Institutes of Health, 6701 Rockledge Drive, Bethesda, MD 20892. The meeting will start on November 14, 2013 at 10:00 a.m. and end on December 15, 2013 at 6:00 p.m. The meeting is closed to the public.

Dated: October 28, 2013.
Anna Snouffer,
Deputy Director, Office of Federal Advisory Committee Policy.

[FR Doc. 2013-25911 Filed 10-30-13; 8:45 am]

BILLING CODE 4140-01-P